DEPARTMENT OF VETERANS AFFAIRS

[OMB Control No. 2900-NEW]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before September 6, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to 2900-NEW.”

Send comments and recommendations concerning any aspect of the information collection to VA's OMB Desk Officer, OMB Human Resources and Housing Branch, New Executive Office Building, Room 10235, Washington, DC 20503 (202) 395-7316. Please refer to “2900-NEW.”

SUPPLEMENTARY INFORMATION: Title: Longitudinal Health Study of Persian Gulf War Veterans, VA Form 10-21055 (NR).

Type of Review: New collection.

Abstract: The Department of Veterans Affairs (VA) has designed a longitudinal study of Gulf War veterans to evaluate the health of veterans ten years after the Gulf War. The study will allow VA to monitor the health of veterans over time to determine the extent of the health problems among Gulf War veterans and whether health status of Gulf War veterans is better or worse than the health of veterans who were not deployed to the Gulf.

An agency may not conduct or sponsor, and a person is not required to respond to a collection of information unless it displays a currently valid OMB control number. The Federal Register Notice with a 60-day comment period soliciting comments on this collection of information was published on April 29, 2002, at page 21017.

Affected Public: Individuals or households.

Estimated Annual Burden: 3,966 hours.

Estimated Average Burden Per Respondent: 30 minutes.

Frequency Of Response: Every three years.

Estimated Number Of Respondents: 7,933.

Dated: July 25, 2002.
By Direction of the Secretary.
Gene McCully,
Acting Director, Information Management Service.

[FR Doc. 02-19949 Filed 8-6-02; 8:45 am]

BILLING CODE 8320-01-M